ENVIRONMENTAL PROTECTION AGENCY

[ER-FRL-9001-4]

Environmental Impacts Statements; Notice of Availability

Responsible Agency: Office of Federal Activities, General Information (202) 564-7146 or http://www.epa.gov/compliance/nepa/.

Weekly receipt of Environmental Impact Statements

Filed 01/23/2012 Through 01/27/2012

Pursuant to 40 CFR 1506.9

Notice

Section 309(a) of the Clean Air Act requires that EPA make public its comments on EISs issued by other Federal agencies. EPA's comment letters on EIS are available at: http://www.epa.gov/compliance/nepa/eisdata.html.

EIS No. 20120019, Draft EIS, BLM, 00, Programmatic—Allocation of Oil Shale and Tar Sands Resources on Lands Administered, Propose to Amend 10 Land Use Plans in Colorado, Utah, and Wyoming, Comment Period Ends: 05/02/2012, Contact: Sherri Thompson (303) 239-3758.

EIS No. 20120020, Final EIS, FHWA, MN, US-14 Reconstruction Project, Improvements to Truck Highway 14 from Front Street in New Ulm to Nicollet County Road 6 in North Mankato, Funding, USACE Section 10 and 404 Permits, Brown and Nicollet Counties, MN, Review Period Ends: 03/12/2012, Contact: Philip Forst (651) 291-6110.

EIS No. 20120021, Draft Supplement, USFWS, CA, Tehachapi Uplands Multiple Species Habitat Conservation Plan (TUMSHCP), Propose Issuance of a 50-Year Incidental Take Permit for 27 Federal- and State-Listed and Unlisted Species, New Information and a Revised Range of Alternatives, Kern County, CA, Comment Period Ends: 05/02/2012 Contact: John Robles (916) 414-6731.

EIS No. 20120022, Final EIS, BLM, NM, HB In-Situ Solution Mining Project, Proposal to Extract the Potash Remaining in Inactive Underground Mine, NPDES Permit, Eddy County, NM, Review Period Ends: 03/05/2012, Contact: Jim Stovall (575) 234-5972.

EIS No. 20120023, Final Supplement, USFS, ID, Bussel 484 Project Area, Updated and New Information, Manage the Project Area to Achieve Desired Future Conditions for Vegetation, Fire, Fuels, Recreation, Access, Wildlife, Fisheries, Soil and Water, Idaho Panhandle National Forest, St. Joe Ranger District, Shoshone County, ID, Review Period Ends: 03/19/2012, Contact: Mary Farnsworth (208) 765-7369.

EIS No. 20120024, Final EIS, FTA, CA, Alameda-Contra Transit (AC Transit) East Bay Bus Rapid Transit Project, Implement High Level Bus Rapid Transit Improvements Connecting Berkeley, Oakland and San Leandro, San Francisco Bay Area, Funding, Alameda County, CA, Review Period Ends: 03/05/2012, Contact: Lucinda Eagle (415) 744-0140.

EIS No. 20120025, Final EIS, USFS, 00, Programmatic—National Forest System Land Management Planning, Proposing a New Rule at 36 CFR Part 219 Guide Development, Revision, and Amendment of Land Management Plans for Unit of the National Forest System, Review Period Ends: 03/05/2012, Contact: Brenda Halter-Glenn (202) 260-9400.

EIS No. 20120026, Draft Supplement, NOAA, 00, Amendment 11 to the Fishery Management Plan for Spiny Lobster, Establish Trap Line Marking Requirements and Closed Areas to Protect Coral Species, Gulf of Mexico and South Atlantic Regions, Comment Period Ends: 03/19/2012, Contact: Roy Crabtree (727) 824-5301.

Amended Notices

EIS No. 20110430, Draft EIS, HUD, CA, Alice Griffith Redevelopment Project, Redevelopment of the #4-Acre “Project Site” for 1,200 New Dwelling Units, Retail Development, Open Space and Associated Infrastructure, City and County of San Francisco, CA, Comment Period Ends: 03/13/2012, Contact: Eugene T. Flannery (415) 701-5598, Revision to FR Notice Published 12/30/11: Extending Comment Period from 2/13/2012 to 3/13/2012.

Dated: January 31, 2012.
Cliff Rader,
Director, NEPA Compliance Division, Office of Federal Activities.

[FR Doc. 2012-2435 Filed 2-2-12; 8:45 am]

BILLING CODE 6560-50-P